DEPARTMENT OF TRANSPORTATION

Federal Aviation Administration

14 CFR Part 39

[Docket No. FAA-2024-1285; Project Identifier MCAI-2023-01146-T; Amendment 39-22872; AD 2024-22-01]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is superseding Airworthiness Directive (AD) 2023-05-08, which applied to certain Airbus Canada Limited Partnership Model BD-500-1A10 and BD-500-1A11 airplanes. AD 2023-05-08 required revising the existing maintenance or inspection program, as applicable, to incorporate new or more restrictive airworthiness limitations. This AD was prompted by a determination that new or more restrictive airworthiness limitations are necessary. This AD continues to require certain actions in AD 2023-05-08 and requires revising the existing maintenance or inspection program, as applicable, to incorporate new or more restrictive airworthiness limitations, as specified in a Transport Canada AD, which is incorporated by reference. The FAA is issuing this AD to address the unsafe condition on these products.

DATES: This AD is effective December 31, 2024.

The Director of the Federal Register approved the incorporation by reference of a certain publication listed in this AD as of December 31, 2024.

The Director of the Federal Register approved the incorporation by reference of a certain other publication listed in this AD as of May 12, 2023 (88 FR 20751, April 7, 2023).

The Director of the Federal Register approved the incorporation by reference of a certain other publication listed in this AD as of March 30, 2021 (86 FR 10799, February 23, 2021).

ADDRESSES:

AD Docket: You may examine the AD docket at regulations.gov under Docket No. FAA-2024-1285; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation.

• For Airbus Canada Limited Partnership material identified in this AD, contact Airbus Canada Limited Partnership, 13100 Henri-Fabre Boulevard, Mirabel, Québec J7N 3C6, Canada; telephone 450-476-7676; email a220_crc@abc.airbus; website a220world.airbus.com.

• You may view this material at the FAA, Airworthiness Products Section, Operational Safety Branch, 2200 South 216th St., Des Moines, WA. For information on the availability of this material at the FAA, call 206-231-3195. It is also available at regulations.gov under Docket No. FAA-2024-1285.>

FOR FURTHER INFORMATION CONTACT: Gabriel D. Kim, Aviation Safety Engineer, FAA, 1600 Stewart Avenue, Suite 410, Westbury, NY 11590; telephone 516-228-7343; email 9-avs-nyaco-cos@faa.gov.

SUPPLEMENTARY INFORMATION:

Background

The FAA issued a notice of proposed rulemaking (NPRM) to amend 14 CFR part 39 to supersede AD 2023-05-08, Amendment 39-22377 (88 FR 20751, April 7, 2023) (AD 2023-05-08). AD 2023-05-08 applied to certain Airbus Canada Limited Partnership Model BD-500-1A10 and BD-500-1A11 airplanes. AD 2023-05-08 required revising the existing maintenance or inspection program, as applicable, to incorporate new or more restrictive airworthiness limitations. The FAA issued AD 2023-05-08 to address reduced structural integrity of the airplane or reduced controllability of the airplane.

The NPRM published in the Federal Register on April 29, 2024 (89 FR 33300). The NPRM was prompted by AD CF-2023-69, dated October 5, 2023, issued by Transport Canada, which is the aviation authority for Canada (Transport Canada AD CF-2023-69) (also referred to as the MCAI).

In the NPRM, the FAA proposed to continue to require certain actions in AD 2023-05-08 and require revising the existing maintenance or inspection program, as applicable, to incorporate new or more restrictive airworthiness limitations. The FAA is issuing this AD to address the unsafe condition on these products.

You may examine the MCAI in the AD docket at regulations.gov under Docket No. FAA-2024-1285.

Discussion of Final Airworthiness Directive

Comments

The FAA received comments from Air Line Pilots Association, International (ALPA), who supported the NPRM without change.

The FAA received additional comments from Delta Air Lines (Delta). The following presents the comments received on the NPRM and the FAA's response to each comment.

Request To Incorporate by Reference the MCAI

Delta requested that the FAA update the language in the proposed AD to mandate Transport Canada AD CF-2023-69 via incorporation by reference (IBR) instead of mandating Airbus Canada Limited Partnership A220 Airworthiness Limitations, BD500-3AB48-11400-02, Issue 017.01, dated August 17, 2023, by IBR. Delta stated this would allow operators to incorporate the following language: “The use of superseding Interim Revisions or later revisions of the AWL Publication, approved by TC, is acceptable for compliance [. . .]” in Transport Canada AD CF-2023-69. Delta noted that transitioning to IBR of the Transport Canada AD versus the IBR of a specific manufacturer airworthiness limitation (AWL) revision is necessary as AWL Issue 017.02 has already been published and AWL Issue 018.00 is estimated to be released later in 2024. Delta noted it could be at risk of grounding its fleet while waiting for an alternative method of compliance (AMOC) to allow incorporating more up to date AWL revisions.

The FAA agrees to mandate Transport Canada AD CF-2023-69 via IBR in this AD for the reasons provided by the commenter. Incorporating by reference the MCAI instead of the service information does not change the required action to incorporate Airbus Canada Limited Partnership A220 Airworthiness Limitations, BD500-3AB48-11400-02, Issue 017.01, dated August 17, 2023, into their maintenance or inspection program. Instead incorporating by reference of the MCAI relieves the burden of applying for AMOCs to use later approved revisions of the service information. By mandating Transport Canada AD CF-2023-69 via IBR, operators are allowed to use applicable later AWL revisions to comply with the requirements of this AD. Transport Canada AD CF-2023-69 includes paragraph C., which accepts the use of later revisions, approved by Transport Canada, of the referenced AWL document for compliance. The FAA concurs this change will minimize any disruption to an operator's existing maintenance or inspection program due to any potential delays in an AMOC approval.

The FAA has revised paragraph (k) of this AD to incorporate by reference Transport Canada AD CF-2023-69 and added paragraph (l) to this AD to specify exceptions to Transport Canada AD CF-2023-69. The exceptions in paragraph (l) of this AD are standard for ADs that incorporate MCAI by reference.

The FAA has also revised paragraph (m) of this AD (paragraph (l) of the proposed AD) to refer to Transport Canada AD CF-2023-69.

Although Delta indicated that all of Airbus Canada Limited Partnership A220 Airworthiness Limitations, BD500-3AB48-11400-02, Issue 017.01, dated August 17, 2023, should be mandated via the IBR of Transport Canada AD CF-2023-69, the FAA has still excluded Section 03, “Candidate CMR Limitations—General.” Paragraph (g) of this AD is for the CCMRs and paragraph (k) of this AD incorporates all AWLs except for CCMRs, as specified in the paragraph (l)(3) of this AD.

Request To Allow AMOCs

Delta requested that the FAA add a paragraph to allow the use of AMOCs approved for AD 2023-05-08 as AMOCs to the proposed AD paragraphs that require revising the existing maintenance or inspection program. Delta stated it has received many AMOCs for AD 2023-05-08, including one that approves the use of A220 AWL Issue 017.02, or later revisions approved by Transport Canada or Airbus Canada Limited Partnership's Transport Canada Design Approval Organization (DAO), except for the use of candidate certification maintenance requirements (CCMRs). Delta noted that the CCMRs in Table 2 of Airbus Canada Limited Partnership A220 Airworthiness Limitations, BD500-3AB48-11400-02, Issue 011.00, dated June 18, 2020, are still mandatory for airplanes with an original certificate of airworthiness issued on or before June 18, 2020. Delta concluded that the extension of these AMOCs to the proposed AD would allow Delta to continue to use the latest AWL revision and not be responsible for requesting/receiving an AMOC between the AD's publication date and the AD's effective date, preventing the grounding of its fleet.

The FAA agrees that previous AMOCs are acceptable for certain paragraphs in this AD. The FAA has added paragraph (n)(1)(ii) to this AD to allow AMOCs approved previously for AD 2023-05-08 as AMOCs for the corresponding provisions of paragraphs (g) and (i) of this AD. The FAA has also added paragraph (n)(1)(iii) to this AD to allow AMOCs approved previously for AD 2023-05-08 as AMOCs for the corresponding provisions of paragraph (k) of this AD, except for AMOCs that allow the use of revisions earlier than Airbus Canada Limited Partnership A220 Airworthiness Limitations, BD500-3AB48-11400-02, Issue 017.01, dated August 17, 2023.

Request To Remove the Requirement Mandating CCMRs

Delta requested that the FAA remove the requirement mandating the CCMR section of the AWL document. Delta noted that new airplanes are required by the CFR to have the corresponding AWL revision incorporated into their maintenance program. Delta stated the A220 AWL revisions have a CCMR section and thus are required to be incorporated into its maintenance program. Delta pointed out that the FAA has stated CCMR sections should not be mandated by the FAA (as specified in the FAA's response to comments to the NPRM for AD 2023-05-08). Delta concluded their maintenance program is split as follows:

• Newly delivered airplanes: not affected by an AD, CCMRs are required.

• Airplanes delivered after AWL Issue 011.00: CCMR are not required per ADs or CFR.

• Airplanes delivered before AWL Issue 011.00: CCMRs are required per ADs.

The FAA agrees to clarify. In AD 2023-05-08, the FAA explained that equivalent airplane maintenance manual (AMM) tasks may be mandated in lieu of CCMRs in future rulemaking. The FAA also explained that CCMRs that were previously mandated can continue to be mandated. This AD only mandates the previously mandated CCMRs from AD 2021-04-05, Amendment 39-21426 (86 FR 10799, February 23, 2021), as specified in the retained requirements of paragraph (g) of this AD. For this AD, there are no new CCMRs. For future rulemaking where the MCAI includes new CCMRs, the FAA will mandate equivalent AMM tasks in lieu of the CCMRs.

Regarding Delta's comment that their maintenance program is split, the FAA notes that, for Model BD-500-1A10 and BD-500-1A11 airplanes, the CCMRs are mandated either by an AD action or the CFR as follows:

• Newly delivered airplanes with an original airworthiness certificate or original export certificate of airworthiness issued after August 17, 2023: These airplanes are not affected by this AD. However, complying with the airworthiness limitations specified as part of the approved type design and referenced on the type certificate data sheet is required per the CFR (14 CFR 91.403(c)). These airplanes were certified with AWL documents that include CCMRs.

• Airplanes delivered after AWL Issue 011.00 (airplane with an original airworthiness certificate or original export certificate of airworthiness issued after June 18, 2020, but on or before August 17, 2023): These airplanes are affected by this AD. This AD does not require incorporating CCMRs for these airplanes but the CCMRs in the AWL delivered with the airplane are required by the CFR. These airplanes must comply with the airworthiness limitations specified as part of the approved type design and referenced on the type certificate data sheet; these airplanes were certified with AWL Issue 011.00 (or later issues). Those AWL issues include the CCMRs that operators must comply with.

• Airplanes delivered before AWL Issue 011.00 (airplanes with an original airworthiness certificate or original export certificate of airworthiness issued on or before June 18, 2020) are affected by this AD, which requires the CCMRs.

The FAA has not changed this AD regarding this issue.

Request To Add Exception Paragraph

Delta requested that the FAA add an exception paragraph to the proposed AD to allow FAA operators to omit the 10,000-flight hour life limit for the fuel pump cartridge. In addition, Delta requested that Airbus Canada's latest petition (submitted Dec. 2023) to update Exemption 16779A be approved. Delta noted that the FAA has published Docket No.: FAA-2016-4198; Summary Notice No. 2024-18, which summarizes the petition to request relief from the 10,000-flight hour life limit for the fuel pump cartridge.

Delta stated that in Airbus Canada Limited Partnership A220 Airworthiness Limitations, BD500-3AB48-11400-02, Issue 017.00, Airbus Canada removed, for European Union Aviation Safety Agency (EASA) and Transport Canada operators, the 13,000 flight hour life limit for all fuel boost pump cartridges with manufacturer part number (MPN) 9C208-3 except for “SN AAM4613 to AAM4622; AAF8325; AAF8326; AAJ6639; AAK5612; AAL6169; AAL6170; AAL6173; AAL6174 (PRE SB 9C208-3-28-001)”. Delta stated that Airbus Canada was not able to remove the 10,000-flight hour life limit for FAA operators as FAA Exemption 16779A still requires it.

Delta explained that these fuel boost pump cartridges, MPN 9C208-3, cost approximately $85,000/pump, and there are two pumps per airplane. In addition, Delta explained that it takes approximately 3 years to reach the 10,000-flight hour life limit. At its present fleet size, Delta estimated that it must spend a minimum of $11.7 million every 3 years to replace the fuel boost pump cartridges and once its fleet is fully delivered, it will spend approximately $24.6 million every 3 years. Delta concluded that it is unreasonable to force FAA operators to be burdened with additional costs of compliance over that of other operators who are operating under Airbus Canada Limited Partnership A220 Airworthiness Limitations, BD500-3AB48-11400-02, Issue No. 017.00.

Delta proposed that the FAA include the following exception to paragraph (l) of the proposed AD: “Where TCCA AD CF-2023-69 paragraph A. requires incorporation of the AWL, this AD does not require a 10,000 FH life limit on Part Number 9C208-3 (Cartridge, boost pump) unless it falls within the effectivity definition in Parker SB 9C208-3-28-001.”

Delta requested that if the FAA does not agree to add an exception as stated above, then the Costs of Compliance section of the NPRM be updated to include these exceptional material costs.

The FAA does not agree with the commenter's requests. The FAA cannot grant or deny petitions for exemptions within an AD as that process is outside the scope of this AD action. In addition, the FAA has determined that this AD cannot include relief from the fuel boost pump cartridge life limits in an AD in regards to the petition for relief from FAA Exemption 16779A.

Regarding the costs, the FAA does not agree to revise the Cost of Compliance section of this AD to include the cost of accomplishing repetitive replacements. The FAA recognizes such costs are part of complying with airworthiness limitations, but the costs of accomplishing maintenance actions specified in airworthiness limitations are not directly required by this AD. Instead, this AD requires operators to revise their existing maintenance or inspection program, as applicable, to incorporate the new airworthiness limitations. Compliance with any airworthiness limitation is required by 14 CFR 91.403(c). Therefore, compliance with the airworthiness limitations is not a requirement of this AD, and including the cost of a replacement part would be inappropriate. The FAA has not changed this AD regarding this issue.

Request To Clarify AMOC Process

Delta requested clarification if an AMOC to deviate from the proposed AD (once published as a final rule) will be needed or if U.S. operators will be able to deviate from the life limit for certain fuel boost pump cartridges once the petition to exemption 16779A is published. Delta stated it believes this exemption will allow Airbus Canada to remove the life limit from the AWL at the next revision. Delta stated it may need to continue to comply with the specific AWL revision until the next AWL revision is published and the FAA has provided approval to use the latest AWL. Delta concluded that due to the significant operational and financial impacts, Delta would like to introduce this relief as soon as possible.

The FAA agrees to clarify. Once the petition to the exemption 16779A is approved and published, operators may request an AMOC to this AD, under the provisions of paragraph (n)(1) of this AD, to allow relief from the fuel boost pump cartridge life limits.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

Transport Canada AD CF-2023-69 describes airworthiness limitations for fuel tank systems, safe life limits, and certification maintenance requirements.

This AD also requires Airbus Canada Limited Partnership A220 Airworthiness Limitations, BD500-3AB48-11400-02, Issue 014.00, dated February 3, 2022, which the Director of the Federal Register approved for incorporation by reference as of May 12, 2023 (88 FR 20751, April 7, 2023).

This AD also requires Airbus Canada Limited Partnership A220 Airworthiness Limitations, BD500-3AB48-11400-02, Issue 011.00, dated June 18, 2020, which the Director of the Federal Register approved for incorporation by reference as of March 30, 2021 (86 FR 10799, February 23, 2021).

This material is reasonably available because the interested parties have access to it through their normal course of business or by the means identified in the ADDRESSES section.

Costs of Compliance

The FAA estimates that this AD affects 99 airplanes of U.S. registry. The FAA estimates the following costs to comply with this AD:

The FAA estimates the total cost per operator for the retained actions from AD 2023-05-08 to be $7,650 (90 work-hours × $85 per work-hour).

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-05-08, Amendment 39-22377 (88 FR 20751, April 7, 2023); and

b. Adding the following new AD:

2024-22-01 Airbus Canada Limited Partnership (Type Certificate Previously Held by C Series Aircraft Limited Partnership (CSALP); Bombardier, Inc.): Amendment 39-22872; Docket No. FAA-2024-1285; Project Identifier MCAI-2023-01146-T.

(a) Effective Date

This airworthiness directive (AD) is effective December 31, 2024.

(b) Affected ADs

This AD replaces AD 2023-05-08, Amendment 39-22377 (88 FR 20751, April 7, 2023) (AD 2023-05-08).

(c) Applicability

This AD applies to Airbus Canada Limited Partnership airplanes, certificated in any category, as identified in paragraphs (c)(1) and (2) of this AD.

(1) Model BD-500-1A10 airplanes, serial numbers 50001 and subsequent with an original airworthiness certificate or original export certificate of airworthiness issued on or before August 17, 2023.

(2) Model BD-500-1A11 airplanes, serial numbers 55001 and subsequent with an original airworthiness certificate or original export certificate of airworthiness issued on or before August 17, 2023.

(d) Subject

Air Transport Association (ATA) of America Code 05, Time Limits/Maintenance Checks.

(e) Reason

This AD was prompted by a determination that new or more restrictive airworthiness limitations are necessary. The FAA is issuing this AD to address reduced structural integrity of the airplane or reduced controllability of the airplane.

(f) Compliance

Comply with this AD within the compliance times specified, unless already done.

(g) Retained Revision of the Existing Maintenance or Inspection Program, With Revised Language

This paragraph restates the requirements of paragraph (g) of AD 2023-05-08, with revised language. For airplanes with an original airworthiness certificate or original export certificate of airworthiness issued on or before June 18, 2020: Within 90 days after March 30, 2021 (the effective date of AD 2021-04-05, Amendment 39-21426 (86 FR 10799, February 23, 2021)), revise the existing maintenance or inspection program, as applicable, to incorporate the information specified in Section 03, “Candidate CMR Limitations—General,” of Airbus Canada Limited Partnership A220 Airworthiness Limitations, BD500-3AB48-11400-02, Issue 011.00, dated June 18, 2020. The initial compliance time for doing the tasks is at the time specified in Airbus Canada Limited Partnership A220 Airworthiness Limitations, BD500-3AB48-11400-02, Issue 011.00, dated June 18, 2020, or within 90 days after March 30, 2021, whichever occurs later.

(h) Retained No Alternative Actions, Intervals, or Critical Design Configuration Control Limitations (CDCCLs), With Revised Language

This paragraph restates the requirements of paragraph (h) of AD 2023-05-08 with revised language. After the existing maintenance or inspection program has been revised as required by paragraph (g) of this AD, no alternative actions (e.g., inspections), intervals, or CDCCLs may be used unless the actions, intervals, and CDCCLs are approved as an alternative method of compliance.

(i) Retained Revision of the Existing Maintenance or Inspection Program, With a New Terminating Action

This paragraph restates the requirements of paragraph (i) of AD 2023-05-08, with a new terminating action. For airplanes with an original airworthiness certificate or original export certificate of airworthiness issued on or before February 3, 2022: Within 90 days after May 12, 2023 (the effective date of AD 2023-05-08), revise the existing maintenance or inspection program, as applicable, to incorporate the information specified in Sections 01, “Airworthiness limitations—Introduction;” 02, “Certification maintenance requirements—General;” 04, “ALI structural inspections—General;” 05, “Life limited parts—General;” 06, “Fuel system limitations—General;” 07, “Critical design configuration control limitations—General;” 08, “Power plant limitations—General;” 09, “Structural repair limitations—General;” and 10, “Limit of validity—General;” inclusive of Airbus Canada Limited Partnership A220 Airworthiness Limitations, BD500-3AB48-11400-02, Issue 014.00, dated February 3, 2022. The initial compliance time for doing the tasks is at the time specified in Airbus Canada Limited Partnership A220 Airworthiness Limitations, BD500-3AB48-11400-02, Issue 014.00, dated February 3, 2022, or within 90 days after May 12, 2023, whichever occurs later. Accomplishing the revision of the existing maintenance or inspection program required by paragraph (k) of this AD terminates the requirements of this paragraph.

(j) Retained No Alternative Actions, Intervals, or CDCCLs, With a New Exception

This paragraph restates the requirements of paragraph (j) of AD 2023-05-08, with a new exception. Except as required by paragraph (k) of this AD, after the existing maintenance or inspection program has been revised as required by paragraph (i) of this AD, no alternative actions (e.g., inspections), intervals, or CDCCLs may be used unless the actions, intervals, and CDCCLs are approved as an alternative method of compliance (AMOC) in accordance with the procedures specified in paragraph (n)(1) of this AD.

(k) New Revision of the Existing Maintenance or Inspection Program

Except as specified in paragraph (l) of this AD: Comply with all required actions and compliance times specified in, and in accordance with, Transport Canada AD CF-2023-69, dated October 5, 2023 (Transport Canada AD CF-2023-69). Accomplishing the revision of the existing maintenance or inspection program required by this paragraph terminates the requirements of paragraph (i) of this AD.

(l) Exception to Transport Canada AD CF-2023-69

(1) Where Transport Canada AD CF-2023-69 refers to its effective date, this AD requires using the effective date of this AD.

(2) Where paragraph A. of Transport Canada AD CF-2023-69 specifies to “amend the TC-approved maintenance schedule,” this AD requires replacing that text with “revise the existing maintenance or inspection program, as applicable.”

(3) Where paragraph A. of Transport Canada AD CF-2023-69 specifies incorporating Airbus Canada Limited Partnership A220 Airworthiness Limitations, BD500-3AB48-11400-02, Issue 017.01, dated August 17, 2023, for this AD, incorporating the information specified in Section 03, “Candidate CMR Limitations—General” of Airbus Canada Limited Partnership A220 Airworthiness Limitations, BD500-3AB48-11400-02, Issue 017.01, dated August 17, 2023, is not required.

(4) The initial compliance time for doing the tasks specified in paragraph A. of Transport Canada AD CF-2023-69 is at the applicable “thresholds” as incorporated by the requirements of paragraph A. of Transport Canada AD CF-2023-69, or within 90 days after the effective date of this AD, whichever occurs later.

(5) This AD does not adopt paragraph B. of Transport Canada AD CF-2023-69.

(m) New Provisions for Alternative Actions, Intervals, or CDCCLs

After the existing maintenance or inspection program has been revised as required by paragraph (k) of this AD, no alternative actions (e.g., inspections), intervals, or CDCCLs may be used unless they are approved as specified in the provisions of the “Corrective Actions” section of Transport Canada AD CF-2023-69.

(n) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (o) of this AD. Information may be emailed to: AMOC@faa.gov.

(i) Before using any approved AMOC, notify your appropriate principal inspector, or lacking a principal inspector, the manager of the responsible Flight Standards Office.

(ii) AMOCs approved previously for AD 2023-05-08 are approved as AMOCs for the corresponding provisions of paragraphs (g) and (i) of this AD.

(iii) AMOCs approved previously for AD 2023-05-08 are approved as AMOCs for the corresponding provisions of paragraph (k) of this AD, except AMOCs that allow issues earlier than Airbus Canada Limited Partnership A220 Airworthiness Limitations, BD500-3AB48-11400-02, Issue 017.01, dated August 17, 2023.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(o) Additional Information

For more information about this AD, contact Gabriel D. Kim, Aviation Safety Engineer, FAA, 1600 Stewart Avenue, Suite 410, Westbury, NY 11590; telephone 516-228-7343; email 9-avs-nyaco-cos@faa.gov.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 31, 2024.

(i) Transport Canada AD CF-2023-69, dated October 5, 2023.

(ii) [Reserved]

(4) The following service information was approved for IBR on May 12, 2023 (88 FR 20751, April 7, 2023).

(i) Airbus Canada Limited Partnership A220 Airworthiness Limitations, BD500-3AB48-11400-02, Issue 014.00, dated February 3, 2022.

(ii) [Reserved]

(5) The following service information was approved for IBR on March 30, 2021 (86 FR 10799, February 23, 2021).

(i) Airbus Canada Limited Partnership A220 Airworthiness Limitations, BD500-3AB48-11400-02, Issue 011.00, dated June 18, 2020.

(ii) [Reserved]

(6) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website at tc.canada.ca/en/aviation.

(7) For Airbus Canada Limited Partnership material identified in this AD, contact Airbus Canada Limited Partnership, 13100 Henri-Fabre Boulevard, Mirabel, Québec J7N 3C6, Canada; telephone 450-476-7676; email a220_crc@abc.airbus; website a220world.airbus.com.

(8) You may view this material at the FAA, Airworthiness Products Section, Operational Safety Branch, 2200 South 216th St., Des Moines, WA. For information on the availability of this material at the FAA, call 206-231-3195.

(9) You may view this material at the National Archives and Records Administration (NARA). For information on the availability of this material at NARA, visit www.archives.gov/federal-register/cfr/ibr-locations, or email fr.inspection@nara.gov.

Issued on November 20, 2024.
Peter A. White,
Deputy Director, Integrated Certificate Management Division, Aircraft Certification Service.

[FR Doc. 2024-27591 Filed 11-25-24; 8:45 am]

BILLING CODE 4910-13-P